FEDERAL ELECTION COMMISSION

Sunshine Act; Notice of Meeting

Date AND Time: Thursday, September 14, 2006 at 10 a.m.

Place: 999 E Street, NW., Washington, DC (Ninth Floor).

Status: This Meeting Will Be Open to the Public.

The Following Item Has Been Added to the Agenda: Draft Final Rules and E&J on Amendments to 11 CFR 102.12 and 102.13.

FOR FURTHER INFORMATION CONTACT: Mr. Robert Biersack, Press Officer. Telephone: (202) 694-1220.

Mary W. Dove,
Secretary of the Commission.

[FR Doc. 06-7592 Filed 9-7-06; 11:32 am]

BILLING CODE 6715-01-M